DEPARTMENT OF HEALTH AND HUMAN SERVICES

Centers for Medicare & Medicaid Services

[Document Identifier: CMS-10130, CMS-10164 and CMS 10156]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Federal Funding of Emergency Health Services (section 1011): Provider Payment Determination and Request for section 1011 On-Call Payments; Form No.: CMS-10130 (OMB # 0938-0952); Use: Section 1011 of MMA provides that the Secretary will establish a process for eligible providers to request payment. The Secretary must directly pay hospitals, physicians, and ambulance providers (including Indian Health Service, Indian tribe and tribal organizations) for their otherwise un-reimbursed costs of providing services required by Section 1867 of the Social Security Act (EMTALA) and related hospital inpatient, outpatient and ambulance services. Payments may be made only for services furnished to certain individuals described in the statute as: (1) Undocumented aliens; (2) aliens who have been paroled into the United States at a United States port of entry for the purpose of receiving eligible services; and (3) Mexican citizens permitted to enter the United States for not more than 30 days under the authority of a biometric machine readable border crossing identification card (also referred to as a “laser visa”) issued in accordance with the requirements of regulations prescribed under a specific section of the Immigration and Nationality Act as published in the Bureau of Customs and Border Protection's interim final rule dated August 13, 2004.; Frequency: Other—as needed; Affected Public: Business or other for-profit, Not-for-profit institutions, and State, Local or Tribal Governments; Number of Respondents: 7,503,000; Total Annual Responses: 7,512,000; Total Annual Hours: 634,000.

2. Type of Information Collection Request: New Collection; Title of Information Collection: Electronic Data Interchange (EDI) Enrollment Form and Centers for Medicare and Medicaid Services EDI Registration Form; Form No.: CMS-10164 (OMB # 0938-NEW); Use: CMS is requiring that providers who wish to conduct Electronic Data Interchange (EDI) transactions, specifically the HIPAA Eligibility Inquiry and Response (270/271) directly with CMS at the Baltimore data center, provide certain information related to their organization and/or organizations conducting EDI business on their behalf. Health care providers, clearinghouses, and health plans that wish to access the Medicare system for the purposes of conducting other EDI business transactions are also required to complete this form. Furthermore, CMS has incorporated changes to the collection as a result of public comments. One specific comment resulted in the combining of the information collected related to Medicare Modernization Act (MMA) section 1011 and Medicare Fee-For Service Part A and Part B. Both programs collect similar information for the purposes of provider enrollment and trading partner profile information related to the exchange of EDI transactions. To further reduce the burden on providers enrolling in either the MMA section 1011 and/or the Medicare Fee-For Service program the CMS-10164 collection will change terms from “Carrier/FI” to “Medicare contractor”. The purpose is to generically refer to the organization that CMS contracts with to operate the specific program function such as MMA section 1011 or Medicare Part A, Medicare Part B for a specific jurisdiction. The information will be used to assure that profile data for those entities that access the section 1011 and/or Medicare system are entered appropriately. Frequency: Recordkeeping and Reporting—Other (As-Needed); Affected Public: Business or other for-profit, Not-for-profit institutions; Number of Respondents: 1,220,000; Total Annual Responses: 1,220,000; Total Annual Hours: 400,000.

3. Type of Information Collection Request: Extension of a currently approved collection; Title of Information Collection: Retiree Drug Subsidy (RDS) Application and Instructions; Form Number: CMS'10156 (OMB#: 0938” 0957); Use: Under the Medicare Prescription Drug, Improvement, and Modernization Act (MMA) of 2003 and implementing regulations at 42 CFR subpart R plan sponsors (employers,unions) who offer prescription drug coverage to their qualified covered retirees are eligible to receive a 28% taxfree subsidy for allowable drug costs. In order to qualify, plan sponsors must submit a complete application to CMS with a list of retirees for whom it intends to collect the subsidy; Frequency: Quarterly, Monthly, Annually; Affected Public: Business or other for-profit, Not-for-profit institutions, Federal, State, local and/or tribal Government; Number of Respondents: 50,000; Total Annual Responses: 50,000; Total Annual Hours: 2,025,000.

To obtain copies of the supporting statement and any related forms for these paperwork collections referenced above, access CMS Web site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received by the OMB Desk Officer at the address below, no later than 5 p.m. on December 19, 2005. OMB Human Resources and Housing Branch, Attention: Carolyn Lovett, CMS Desk Officer,New Executive Office Building, Room 10235,Washington, DC 20503.

Dated: November 9, 2005.
Michelle Shortt,
Director, Regulations Development Group, Office of Strategic Operations and Regulatory Affairs.

[FR Doc. 05-22904 Filed 11-17-05; 8:45 am]

BILLING CODE 4120-01-P